DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995, as amended (44 U.S.C. 3507).

Title: Crisis Counseling Assistance Training Program—Immediate Services Program.

Type of Information Collection: Reinstatement, without change, of a previously approved collection for which approval has expired.

OMB Number: 3067-0166.

Abstract: Section 416 of the Disaster Relief Act of 1974 (Public Law 93-288), as amended by the Robert T. Stafford Disaster and Emergency Assistance Act of 1988 (Public Law 100-707), 42 U.S.C. 5183, authorizes the President to provide financial assistance to State and local governments for professional counseling services to victims of major disasters in order to relieve mental health problems caused or aggravated by a major disaster or its aftermath. FEMA regulation 44 CFR part 206, subpart F, section 206.171, implements the provisions of the Act.

The Immediate Services Program provides funding in response to a State request for the period immediately following a Presidentially declared disaster, and includes community outreach, consultation and public education and counseling techniques. The program is available for a limited period of time not to exceed 60 days, unless an application for regular program funding is submitted. FEMA provides funds in the form of a Federal grant through the State emergency management office to the State Mental Health Authority or other mental health organization designated by the Governor to provide crisis-counseling services to the Presidentially declared communities.

Affected Public: State, local, or Tribal governments.

Number of Respondents: 17.

Estimated Time Per Respondent: 80 hours.

Estimated Total Annual Burden Hours: 1,480.

Frequency of Response: On occasion.

Comments: Interested persons are invited to submit written comments on the proposed information collection to the Office of Management and Budget, Office of Information and Regulatory Affairs, Attention: Desk Officer for the Emergency Preparedness and Response Directorate/Federal Emergency Management Agency, Washington, DC 20503, within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or e-mail address: InformationCollections@fema.gov.

Dated: August 11, 2003.
George Trotter,
Acting Division Director, Information Resources Management Division, Information Technology Services Directorate.

[FR Doc. 03-21009 Filed 8-15-03; 8:45 am]

BILLING CODE 6718-01-P